DEPARTMENT OF AGRICULTURE

Forest Service USDA

Notice of Proposed New Fee Site on the Inyo National Forest

AGENCY: USDA Forest Service,

ACTION: Notice of Proposed New Fee Site.

SUMMARY: The Inyo National Forest, White Mountain Ranger District is proposing to implement fees at a complex of three group camp sites in the White Mountains east of Bishop, California. The proposed fee structure is based on the level of services and amenities provided, cost of operation and maintenance, market assessment and public comments. Fee monies would be used to provide maintenance services, trash hauling, restroom servicing (pumping and hauling of waste), road maintenance into the sites and other direct costs.

The group camp sites, known as the Cedar Flat Group Campsgrounds, were constructed in 2005 as part of a special use permit condition for a large scientific research facility. They are used primarily by colleges, universities, and other educational groups for a “base facility” for their geology field camps, natural history studies and other academic pursuits. They are particularly well suited for this use as they are in close proximity to the geologic areas of study. Additionally, they are in a terrain and vegetation type that allows for dispersed tent use but has a common area for (outdoor) meetings, eating and socializing.

Each group site contains a concrete pad under a shade ramada for picnic tables, a developed parking area, interpretive exhibits, and group working areas. Additionally, all the sites have new sealed vault type toilets, a fire ring and dumpster type trash bins. The sites are of varying sizes and have capacities of 50, 30 and 25 campers. The larger site also has room to park a limited number of recreational vehicles.

The fee for each of the sites is proposed to be set at $25 per night. Traditional use of the old group campsites, removed in 2004, has been longer stays such as two and three weeks for field studies of geology or natural history as part of an academic field camp. No other group site opportunities are available in the vicinity. These sites also have the advantage of being isolated which facilitates group use, evening lighting and later night studying and data preparation by college students, the primary users of these facilities.

Funds derived from the fees would be used to provide regular maintenance services, contract trash hauling and toilet pumping.

DATES: The proposed fee would become effective June 15, 2008.

FOR FURTHER INFORMATION CONTACT: John Louth, Interpretive Specialist, White Mountain Ranger Station, 798 North Main Street, Bishop, CA 93514; (760) 873-2514.

SUPPLEMENTARY INFORMATION: The Federal Recreation Lands Enhancement Act (Title VII, Pub. L. 108-447) directs the Secretary of Agriculture to publish a six month advance notice in the Federal Register whenever new recreation fee areas are established. The intent of this notice is to inform the public of a new fee site. This new fee will be reviewed by a Recreation Resource Advisory Committee prior to a final decision and implementation.

Dated: November 29, 2007.
Jim Upchurch,
Forest Supervisor, Inyo National Forest.

[FR Doc. 07-6045 Filed 12-19-07; 8:45 am]

BILLING CODE 3410-11-P